DEPARTMENT OF THE INTERIOR

National Park Service

[NPS-WASO-NRSS-CCRP-22342; PPWONRADC0, PPMRSNR1Y.NM0000 (177)]

Information Collection Request; Visitor Perceptions of Climate Change in National Parks

AGENCY: National Park Service, Interior.

ACTION: Notice; request for comments.

SUMMARY: We (National Park Service, NPS) have sent an Information Collection Request (ICR) to OMB for review and approval. We summarize the ICR below and describe the nature of the collection and the estimated burden and cost. We may not conduct or sponsor and a person is not required to respond to a collection of information unless it displays a currently valid OMB Control Number. However, under OMB regulations, we may continue to conduct or sponsor this information collection while it is pending at OMB.

DATES: To ensure that your comments on this ICR are considered, OMB must receive them on or before December 8, 2016.

ADDRESSES: Please direct all written comments on this ICR directly to the Office of Management and Budget (OMB) Office of Information and Regulatory Affairs, Attention: Desk Officer for the Department of the Interior, to OIRA_Submission@omb.eop.gov (email) or 202-395-5806 (fax); and identify your submission as 1024-CCRPSURV. Please also send a copy of your comments to Phadrea Ponds, Information Collection Coordinator, National Park Service, 1201 Oakridge Drive, Fort Collins, CO 80525 (mail); or phadrea_ponds@nps.gov (email). Please reference Information Collection 1024-CCRPSURV in the subject line. You may also access this ICR at www.reginfo.gov.

FOR FURTHER INFORMATION CONTACT: Larry Perez, Communications Coordinator, Climate Change Response Program, National Park Service, 1201 Oakridge Drive, Fort Collins, CO 80525 (mail); or larry_perez@nps.gov (email). Please reference Information Collection 1024-CCRPSURV in the subject line.

SUPPLEMENTARY INFORMATION:

I. Abstract

The information gathered in this collection will be used to assess the efficacy of current and hypothetical park climate change messaging in cultivating both a sense of concern and inspiration to act among visitors. The information will be used primarily by NPS administrators, program managers, interpretive specialists, and educators. Results from the collection will be shared broadly across the NPS for application in the development, design, and delivery of climate change communications products.

II. Data

OMB Control Number: None.

Title: Visitor Perceptions of Climate Change in National Parks.

Type of Request: This is a new collection.

Affected Public: General public; Individual households.

Respondent Obligation: Voluntary.

Frequency of Collection: One time.

Estimated Number of Responses: 2,560.

Estimated Annual Burden Hours: 391 hours. We estimate the public reporting burden for both on-site surveys to be 13 minutes per completed response; two minutes to complete the non-response survey; and seven minutes complete the follow-up survey. These times also includes the time for the initial contact and time to explain the purpose of the study.

Estimated Annual Reporting and Recordkeeping “Non-Hour Cost”: We have not identified any “non-hour cost” burdens associated with this collection of information.

III. Comments

A Notice was published in the Federal Register (78 FR 58343) on September 23, 2013 stating that we intended to request OMB approval of our information collection described above. In this Notice, we solicited public comment for 60 days ending November 23, 2013. We did not receive any comments in response to that notice.

We again invite comments concerning this information collection on:

• Whether the proposed collection of information is necessary for the agency to perform its duties, including whether the information is useful;

• The accuracy of the agency's estimate of the burden of the proposed collection of information;

• Ways to enhance the quality, usefulness, and clarity of the information to be collected; and

• Ways to minimize the burden on the respondents, including the use of automated collection techniques or other forms of information technology.

Comments that you submit in response to this notice are a matter of public record. Before including your address, phone number, email address, or other personal identifying information in your comment, you should be aware that your entire comment, including your personal identifying information, may be made publicly available at any time. While you can ask us in your comment to withhold your personal identifying information from public review, we cannot guarantee that we will be able to do so.

Dated: November 3, 2016.
Madonna L. Baucum,
Information Collection Clearance Officer, National Park Service.

[FR Doc. 2016-26925 Filed 11-7-16; 8:45 am]

BILLING CODE 4310-EH-P